DEPARTMENT OF DEFENSE

Office of the Secretary

[Docket ID: DoD-2024-OS-0089]

Submission for OMB Review; Comment Request

AGENCY: Office of the DoD Chief Information Officer, Department of Defense (DoD).

ACTION: 30-Day information collection notice.

SUMMARY: The DoD has submitted to the Office of Management and Budget (OMB) for clearance the following proposal for collection of information under the provisions of the Paperwork Reduction Act.

DATES: Consideration will be given to all comments received by December 19, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: DoD's Defense Industrial Base (DIB) Cybersecurity (CS) Program Point of Contact Information; OMB Control Number 0704-0490.

Type of Request: Revision.

Number of Respondents: 8,800.

Responses per Respondent: 1.

Annual Responses: 8,800.

Average Burden per Response: 20 minutes.

Annual Burden Hours: 2,933.

Needs and Uses: DoD's DIB CS Program enhances and supports DIB CS participants' capabilities to safeguard DoD information that resides on, or transits, DIB unclassified information systems. The operational implementation of this Program requires DoD to collect, share, and manage point of contact (POC) information for Program administration and management purposes. The Government will collect typical business POC information from all DIB CS participants to facilitate communication and share cyber threat information. To implement and execute this Program within their companies, DIB CS participants provide POC information to DoD during the application process to join the Program. This information includes company name and identifiers such as cage code and mailing address, employee names and titles, corporate email addresses, and corporate telephone numbers of company-identified POCs. DIB CS Program POCs include the Chief Executive Officer (CEO), Chief Information Officer (CIO), Chief Information Security Officer (CISO), and Corporate or Facility Security Officer, or their equivalents, as well as those administrative, policy, technical staff, and personnel designated to interact with the Government in executing the DIB CS Program (e.g., typically 3-10 company designated POCs however the upper limit is at the company's discretion). After joining the Program, DIB CS participants provide updated POC information to DoD when personnel changes occur.

The DIB CS Program implements statutory authorities to established programs and activities to protect sensitive DoD information, including when such information resides on or transits information systems operated by contractors in support of DoD activities. Authorities include 32 Code of Federal Regulations (CFR) part 236, “Department of Defense (DoD)'s Defense Industrial Base (DIB) Cybersecurity (CS) Activities,” which authorizes the voluntary DIB CS Information Sharing Program. In addition, the Federal Information Security Modernization Act (FISMA) of 2014 authorizes DoD to oversee agency information security policies and practices, for systems that are operated by DoD, a contractor of the Department, or another entity on behalf of DoD that process any information, the unauthorized access, use, disclosure, disruption, modification, or destruction of which would have a debilitating impact on DoD's mission. Activities under this information collection policy also support DoD's critical infrastructure protection responsibilities, as the sector specific agency for the DIB sector (see Presidential Policy Directive 21 (PPD-21), “Critical Infrastructure Security and Resilience,” available at https://www.whitehouse.gov/the-press-office/2013/02/12/presidential-policy-directive-critical-infrastructure-security-and-resil).

The DIB CS Program is focused on sharing cyber threat information and cybersecurity best practices with DIB CS participants. DoD needs to collect POC information to implement, manage, and administer the Program, and to share cyber threat information with participants. The Government will collect business POC information from all DIB CS participants to facilitate emails, teleconferences, meetings, and other Program activities.

The DIB CS Program uses a web portal (https://dibnet.dod.mil) to gather POC information from DoD contractors when they elect to participate in the Program. Companies select the “DIB CS Member Login” button to start the application process. Applicants will then be prompted to sign into the application with a valid DoD-approved medium assurance certificate. They are then directed to a DoD Information System Standard Notice and Consent banner that indicates they are accessing a U.S. Government information system and must click the “I Agree” button in order to continue. The next page is the DoD Privacy Statement that includes the Authorities, Purpose, Routine Use(s), Disclosure, Privacy Impact Assessment (PIA), Freedom of Information Request (FOIA) disclaimers, and an Agency Disclosure Notice, which must be agreed to by the company, by clicking the “I Agree” button, in order to proceed with the application.

Applicants are then required to complete the POC fields that are provided (i.e., Company Name, Company Representative, CEO, CIO, CISO, and any additional POCs). The online application process does not allow applicants to submit the information unless they certify that the information provided is accurate by checking the “Certify Application” box. After entering all contact information, applicants click on the “Submit Application” button that automatically sends an email to the DIB CS Program Office that an application has been submitted.

If companies want to update their POC information, they can access the portal using their DoD-approved medium assurance certificates. Only designated company representatives and the DIB CS Program system administrators may view or update company POC information.

Affected Public: Businesses or other for-profit; Not-for-profit Institutions.

Frequency: On occasion.

Respondent's Obligation: Voluntary.

OMB Desk Officer: Ms. Jasmeet Seehra.

DoD Clearance Officer: Mr. Reginald Lucas.

Dated: November 13, 2024.
Aaron T. Siegel,
Alternate OSD Federal Register Liaison Officer, Department of Defense.

[FR Doc. 2024-26865 Filed 11-18-24; 8:45 am]

BILLING CODE 6001-FR-P